DEPARTMENT OF COMMERCE

National Oceanic and Atmospheric Administration

[I.D. 081406B]

Endangered Species; Permit No. 1574

AGENCY: National Marine Fisheries Service (NMFS), National Oceanic and Atmospheric Administration (NOAA), Commerce.

ACTION: Notice; Issuance of permit.

SUMMARY: Notice is hereby given that a scientific research permit to take shortnose sturgeon (Acipenser brevirostrum) has been issued to Dr. Frank A. Chapman, Department of Fisheries & Aquatic Sciences, University of Florida, 7922 NW 71st Street, Gainesville, Florida 32653.

ADDRESSES: The permit and related documents are available for review upon written request or by appointment in the following offices:

Permits, Conservation and Education Division, Office of Protected Resources, NMFS, 1315 East-West Highway, Room 13705, Silver Spring, MD 20910; phone (301)713-2289; fax (301)427-2521; and Southeast Region, NMFS, 263 13th Avenue South, St. Petersburg, FL 33701; phone (727)824-5312; fax (727)824-5309.

FOR FURTHER INFORMATION CONTACT: Jennifer Skidmore or Kate Swails at (301)713-2289.

SUPPLEMENTARY INFORMATION: The requested permit has been issued under the authority of the Endangered Species Act of 1973, as amended (ESA; 16 U.S.C. 1531 et seq.) and the regulations governing the taking, importing, and exporting of endangered and threatened species (50 CFR parts 222-226).

On May 10, 2006, notice was published in the Federal Register (71 FR 27230) that a request for a scientific research permit to take shortnose sturgeon had been submitted by Dr. Frank A. Chapman. Dr. Chapman will use 187 captive shortnose sturgeon presently held at the University of Florida to meet the following objectives: (1) identify physical, chemical, and biological parameters required to maintain optimal survival and growth of larvae and juvenile shortnose sturgeon; (2) describe embryonic development and metamorphosis; (3) monitor gonadal development of domestically raised shortnose sturgeon; (4) develop chemical assays to identify the sex and monitor the sexual development of shortnose sturgeon; and (5) understand the physiology of the sperm and egg to develop short and long-term storage of sperm as well as optimum fertilization techniques. The permit has been issued for five years.

Issuance of this permit, as required by the ESA, was based on a finding that such permits (1) were applied for in good faith, (2) will not operate to the disadvantage of such endangered or threatened species, and (3) are consistent with the purposes and policies set forth in section 2 of the ESA.

Dated: August 16, 2006.
P. Michael Payne,
Chief, Permits, Conservation and Education Division, Office of Protected Resources, National Marine Fisheries Service.

[FR Doc. E6-13784 Filed 8-18-06; 8:45 am]

BILLING CODE 3510-22-S